DEPARTMENT OF COMMERCE

International Trade Administration

[A-821-817]

Silicon Metal From the Russian Federation: Final Results of Expedited Sunset Review of Antidumping Duty Order

AGENCY: Import Administration, International Trade Administration, Department of Commerce.

SUMMARY: On February 1, 2008, the Department of Commerce (the Department) initiated a sunset review of the antidumping duty order on silicon metal from the Russian Federation (Russia), pursuant to section 751(c) of the Tariff Act of 1930, as amended (the Act). See Initiation of Five-Year (“Sunset”) Reviews, 73 FR 6128 (February 1, 2008) (Sunset Initiation); see also Antidumping Duty Order: Silicon Metal from Russia, 68 FR 14578 (March 26, 2003); and Silicon Metal from the Russian Federation: Notice of Amended Final Determination Pursuant to Court Decision, 71 FR 8277 (February 16, 2006). Based on the notice of intent to participate, and an adequate substantive response filed on behalf of a domestic interested party, and the lack of a response from any respondent interested parties, the Department conducted an expedited sunset review of the antidumping duty order, pursuant to section 751(c)(3)(B) of the Act and 19 CFR 351.218(e)(1)(ii)(C)(2). As a result of this sunset review, the Department finds that revocation of the antidumping duty order would likely lead to the continuation or recurrence of dumping, at the levels indicated in the “Final Results of Sunset Review” section of this notice, infra.

DATES: Effective Date: May 30, 2008.

FOR FURTHER INFORMATION CONTACT: Gene Calvert, AD/CVD Operations, Office 6, Import Administration, International Trade Administration, Department of Commerce, 14th Street and Constitution Avenue, NW., Washington, DC 20230; telephone: (202) 482-3586.

SUPPLEMENTARY INFORMATION:

Background

On February 1, 2008, the Department initiated a sunset review of the antidumping duty order on silicon metal from Russia pursuant to section 751(c) of the Act. See Sunset Initiation, 73 FR 6128. On February 19, 2008, the Department received a timely notice of intent to participate in this sunset review from a domestic interested party, Globe Metallurgical Inc. (Globe), pursuant to 19 CFR 351.218(d)(1)(i). Globe claimed interested party status under section 771(9)(C) of the Act as a manufacturer in the United States of the domestic like product and as a petitioner in the original investigation.

On February 29, 2008, the Department received an adequate substantive response in this sunset review from Globe within the 30-day deadline in accordance with 19 CFR 351.218(d)(3)(i). The Department did not receive a substantive response from any respondent interested party in this sunset review. As a result, pursuant to section 751(c)(3)(B) of the Act and 19 CFR 351.218(e)(1)(ii)(C)(2), the Department determined to conduct an expedited sunset review of the antidumping duty order on silicon metal from Russia.

Scope of the Order

The product covered by this order is silicon metal, which generally contains at least 96.00 percent but less than 99.99 percent silicon by weight. The merchandise covered by this order also includes silicon metal from Russia containing between 89.00 and 96.00 percent silicon by weight, but containing more aluminum than the silicon metal which contains at least 96.00 percent but less than 99.99 percent silicon by weight. Silicon metal currently is classifiable under subheadings 2804.69.10 and 2804.69.50 of the Harmonized Tariff Schedule of the United States (HTSUS). This order covers all silicon metal meeting the above specification, regardless of tariff classification.

Analysis of Comments Received

A complete discussion of all issues raised in this sunset review can be found in the accompanying “Issues and Decision Memorandum” from Stephen J. Claeys, Deputy Assistant Secretary for Import Administration, to David M. Spooner, Assistant Secretary for Import Administration, dated concurrently with this notice (Decision Memorandum) and hereby adopted by this notice. The issues in the Decision Memorandum include a discussion regarding the likelihood of continuation or recurrence of dumping and the magnitude of the dumping margin likely to prevail if the antidumping duty order on silicon metal from Russia were revoked. This public memorandum is on file in Import Administration's Central Records Unit, Room 1117 of the main Commerce building. In addition, a complete version of the Decision Memorandum can be accessed directly on the Internet at http://ia.ita.doc.gov/frn. The paper copy and electronic version of the Decision Memorandum are identical in content.

Final Results of Sunset Review

Pursuant to section 752(c)(3) of the Act, we determine that revocation of the antidumping duty order on silicon metal from Russia would likely lead to continuation or recurrence of dumping at the weighted-average percentage margins listed below:

Manufacturers/exporters/ producers | Weighted- average margin (percent)
ZAO Kremny and SUAL-Kremny-Ural, Ltd. | 61.61
Bratsk Aluminum Smelter and Rual Trade Limited | 87.08
All Others* | 79.42
* Prior to Russia's graduation to market-economy status in 2002, this rate was referred to as the Russia-wide rate.

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results of this sunset review and this notice in accordance with sections 751(c), 752(c), and 777(i)(1) of the Act.

Dated: May 16, 2008.
David M. Spooner,
Assistant Secretary for Import Administration.

[FR Doc. E8-12104 Filed 5-29-08; 8:45 am]

BILLING CODE 3510-DS-P